DEPARTMENT OF TRANSPORTATION

Federal Aviation Administration

14 CFR Part 39

[Docket No. FAA-2023-1986; Project Identifier AD-2022-00015-T; Amendment 39-22693; AD 2024-05-03]

RIN 2120-AA64

Airworthiness Directives; The Boeing Company Airplanes

AGENCY: Federal Aviation Administration (FAA), DOT.

ACTION: Final rule.

SUMMARY: The FAA is adopting a new airworthiness directive (AD) for certain The Boeing Company Model 767 airplanes. This AD was prompted by a report of cracks on the forward entry door and forward service door cutout aft lower corner fuselage skin and bear strap. This AD requires repetitive inspections for cracking at the affected area, and applicable on-condition actions. The FAA is issuing this AD to address the unsafe condition on these products.

DATES: This AD is effective May 8, 2024.

The Director of the Federal Register approved the incorporation by reference of a certain publication listed in this AD as of May 8, 2024.

ADDRESSES:

AD Docket: You may examine the AD docket at regulations.gov under Docket No. FAA-2023-1986; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For service information identified in this final rule, contact Boeing Commercial Airplanes, Attention: Contractual & Data Services (C&DS), 2600 Westminster Blvd., MC 110-SK57, Seal Beach, CA 90740-5600; telephone 562-797-1717; website myboeingfleet.com.

• You may view service information that is incorporated by reference at the FAA, Airworthiness Products Section, Operational Safety Branch, 2200 South 216th St., Des Moines, WA. For information on the availability of this material at the FAA, call 206-231-3195. It is also available at regulations.gov under Docket No. FAA-2022-1986.

FOR FURTHER INFORMATION CONTACT: Joseph Hodgin, Aviation Safety Engineer, FAA, 2200 South 216th St., Des Moines, WA 98198; phone: 206-231-3962; email: Joseph.J.Hodgin@faa.gov.

SUPPLEMENTARY INFORMATION:

Background

The FAA issued a notice of proposed rulemaking (NPRM) to amend 14 CFR part 39 by adding an AD that would apply to certain The Boeing Company Model 767 airplanes. The NPRM published in the Federal Register on October 5, 2023 (88 FR 69107). The NPRM was prompted by a report of cracks on the forward entry door and forward service door cutout aft lower corner fuselage skin and bear strap. In the NPRM, the FAA proposed to require repetitive inspections for cracking at the affected area, and applicable on-condition actions. The FAA is issuing this AD to address undetected fatigue cracks which, if not addressed, could result in a principal structural element's loss of limit load capability, adversely affecting the airplane's structural integrity.

Discussion of Final Airworthiness Directive

Comments

The FAA received comments from three commenters who supported the NPRM without change.

The FAA received additional comments from five commenters, including ABX Air, All Nippon Airways, Boeing, United Airlines, and UPS. The following presents the comments received on the NPRM and the FAA's response to each comment.

Request for Clarification of Exemption From Alternative Methods of Compliance (AMOC)

ABX Air requested clarification as to whether repairs performed using approval via Form 8110-3 are exempt from needing an AMOC for this AD, similar to repairs made using approval via Form 8100-9 repairs. The commenter provided no justification for the request.

Repairs performed using Form 8110-3 are not exempt from requiring an AMOC for this AD. As specified in paragraph (l)(3) of this AD, only those repairs, modifications, or alterations required by this AD are exempt from an FAA approved-AMOC if those AMOCs are approved by The Boeing Company Organization Designation Authorization (ODA) that has been authorized by the Manager, AIR-520, Continued Operational Safety Branch, FAA, to make those findings. All other repairs, including those approved on Form 8110-3, will require an AMOC approved in accordance with paragraph (l) of this AD. This is necessary to ensure the repairs maintain an adequate level of safety.

Request for Inclusion of B767-300BCF SRM as an Acceptable Method of Compliance

All Nippon Airways requested that the proposed rule be modified to include B767-300BCF SRM Repair 1 as an acceptable method of compliance. It was not listed as a method of compliance whereas 767-200, -300, -300F, and -400 SRMs were in Tables 1 and 2(a). The commenter requested this change because All Nippon Airways owns 767-300BCF aircraft.

The FAA agrees with this change because the repairs and repeat instructions are the same for B767-300BCF as the B767-300 SRM. The FAA has revised paragraph (h) of this AD to include exceptions for repairs performed in accordance with B767-300BCF SRM 53-10-01 Repair 1.

Request for Repetitive Inspections To Be Outlined if No Crack Is Found

Boeing requested that the AD include repetitive inspections for Model 767-2C if no crack is found. This change is requested to maintain the safety of the fleet since paragraph (i) of this AD should include all follow-on actions for the condition of no crack found.

The FAA agrees with adding the repetitive inspections to account for all follow-on actions for no crack found to maintain the safety of the fleet. Paragraph (i) of this AD is revised to include the repetitive inspections.

Boeing also requested that paragraph (j) of this AD be changed to reference the Airworthiness Limitations (AWL) document associated with the Compliance Time Definitions for Model 767-2C airplanes. The commenter is concerned with the redefining compliance times already defined within the AWL, which could create a conflict with the rule that would require a rule revision if the definitions in the AWL were to be redefined.

The FAA disagrees. The FAA's intent is for the compliance time terms used in paragraph (j) of this AD to be the same terms already defined in the Model 767-2C Airworthiness Limitations document. Including the compliance time definitions for Model 767-2C in paragraph (j) of this AD ensures that those definitions are followed, notwithstanding any future changes to the definitions in the AWL. If the compliance time definitions in the AWL are changed in the future, the FAA will consider revising this Airworthiness Directive at that time. In any event, an operator may request approval to use later revised compliance time definitions as an alternative method of compliance (under the provisions of paragraph (l) of this AD).

Request for Change To State That a Ref/C/SRM Repair Terminates the Need for Repetitive Inspections

United Airlines requested the AD be amended to state that repetitive inspections associated with Boeing Alert Requirements Bulletin 767-53A0301 RB, Revision 2, dated May 24, 2023 conditions 3, 4, 7, and 8 (Ref/B) are not required in areas covered by 53-10-01 Repair 1 of the applicable Model 767 SRM (Ref/C/SRM) if done after the initial inspections required by Ref/B/RB. This change is requested because the commenter believes that the installation of a Ref/C/SRM repair after the initial Ref/B/RB inspection should provide at least an equivalent level of safety with the unsafe condition this AD is addressing. The FAA disagrees with revising the AD to state that a Ref/C/SRM repair terminates the need for repetitive inspections associated with RB conditions 3, 4, 7, and 8. In the RB Section 5 Accomplishment Instruction Tables 1 and 2, there is note (c) which states that accomplishment of 53-10-01 Repair 1 of the applicable Model 767 SRM is terminating action for the inspections at this location only. The FAA has determined that note (c) sufficiently outlines that performing repair 1 is the terminating action for the inspections at that location and no further clarification is necessary.

Request Change to Paragraphs (g) and (j) of This AD for Clarity

UPS requested amending paragraph (g) of this AD to state “For Model 767-200, -300, -300F, or -400ER series airplanes, as identified in Section (c) Applicability of the AD” to avoid confusion on where applicability is established in the AD.

UPS also requested revising paragraph (j) of this AD to state “Compliance Time Definitions for Model 767-2C” instead of “Compliance Time Definitions” to avoid confusion.

The FAA disagrees with changing paragraph (g) of this AD language because paragraph (c) of this AD specifies the applicability of the AD and therefore the airplane models affected by paragraph (g) of this AD. For clarification, airplanes not identified in paragraph (c) of this AD are not affected by any paragraph of this AD. The FAA agrees with revising paragraph (j) of this AD to state “Compliance Time Definitions for Model 767-2C” for clarity.

Conclusion

The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Related Service Information Under 1 CFR Part 51

The FAA reviewed Boeing Alert Requirements Bulletin 767-3A0301 RB, Revision 2, dated May 24, 2023. This service information specifies procedures for repetitive inspections (external detailed, internal detailed, and open hole high frequency eddy current) for cracking at the forward entry door and forward service door cutout aft lower corner fuselage skin and bear strap area. This service information also specifies procedures for on-condition actions, including crack repair.

This service information is reasonably available because the interested parties have access to it through their normal course of business or by the means identified in ADDRESSES.

Costs of Compliance

The FAA estimates that this AD affects 682 airplanes of U.S. registry. The FAA estimates the following costs to comply with this AD:

Estimated Costs
Action | Labor cost | Parts cost | Cost per product | Cost on U.S. operators
Inspections | Up to 8 work-hours × $85 per hour = Up to $680 per inspection cycle | $0 | Up to $680 per inspection cycle | Up to $463,760 per inspection cycle.

The FAA has received no definitive data on which to base the cost estimates for the on-condition actions (i.e., possible crack repair) specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-05-03 The Boeing Company: Amendment 39-22693; Docket No. FAA-2023-1986; Project Identifier AD-2022-00015-T.

(a) Effective Date

This airworthiness directive (AD) is effective May 8, 2024.

(b) Affected ADs

None.

(c) Applicability

This AD applies to The Boeing Company airplanes, certificated in any category, identified in paragraphs (c)(1) and (2) of this AD.

(1) Model 767-200, -300, -300F, and -400ER series airplanes, as identified in Boeing Alert Requirements Bulletin 767-53A0301 RB, Revision 2, dated May 24, 2023.

(2) Model 767-2C series airplanes, line numbers 1065, 1066, 1067, 1069, 1091, 1092, 1098, 1100, 1102, 1104, 1107, 1109, 1111, 1113, 1114, 1116, 1117, 1119, 1120, 1122, 1124, 1126, 1128, 1129, 1131, 1132, 1134, 1135, 1137, 1139, 1143, 1145, 1147, 1149, 1151, 1154, 1156, 1158, 1160, 1162, 1164, 1166, 1168, 1170, 1172, 1174, 1176, 1178, 1181, 1184, 1188, 1192, 1196, 1200, 1202, 1205, 1207, 1210, 1213, 1216, 1219, 1223, 1226, 1230, 1234, 1236, 1238, 1241, 1243, 1246, 1248, 1250, 1252, 1254, 1257, 1259, 1261, 1264, 1267, 1269, 1271, and 1273.

(d) Subject

Air Transport Association (ATA) of America Code 53, Fuselage.

(e) Unsafe Condition

This AD was prompted by a report of cracks found on the forward entry door and forward service door cutout aft lower corner fuselage skin and bear strap. The FAA is issuing this AD to address undetected fatigue cracks. The unsafe condition, if not addressed, could result in a principal structural element losing its limit load capability, adversely affecting the airplane's structural integrity.

(f) Compliance

Comply with this AD within the compliance times specified, unless already done.

(g) Required Actions: Model 767-200, -300, -300F, and -400ER

For Model 767-200, -300, -300F, -400ER series airplanes: Except as specified by paragraph (h) of this AD, at the applicable times specified in the “Compliance” paragraph of Boeing Alert Requirements Bulletin 767-53A0301 RB, Revision 2, dated May 24, 2023, do all applicable actions identified in, and in accordance with, the Accomplishment Instructions of Boeing Alert Requirements Bulletin 767-53A0301 RB, Revision 2, dated May 24, 2023.

Note 1 to paragraph (g): Guidance for accomplishing the actions required by this AD can be found in Boeing Alert Service Bulletin 767-53A0301, Revision 2, dated May 24, 2023, which is referred to in Boeing Alert Requirements Bulletin 767-53A0301, Revision 2, dated May 24, 2023.

(h) Exceptions to Service Information Specifications

(1) Where Boeing Alert Requirements Bulletin 767-53A0301 RB, dated May 24, 2023, compliance time columns in Tables 1 and 2, paragraph E (Compliance), use the phrase “the Original Issue date of Requirements Bulletin 767-53A0301 RB,” this AD requires using the effective date of this AD.

(2) Where Boeing Alert Requirements Bulletin 767-53A0301 RB, Revision 2, dated May 24, 2023, specifies contacting Boeing for repair instructions: This AD requires doing the repair before further flight using a method approved in accordance with the procedures specified in paragraph (l) of this AD.

(3) Where Boeing Alert Requirements Bulletin 767-53A0301 RB, Revision 2, dated May 24, 2023, refers to “767-200 SRM 53-10-01 Repair 1, 767-300 SRM 53-10-01 Repair 1, 767-300F SRM 53-10-01 Repair 1 or 767-400 SRM 53-10-01 Repair 1,” this AD requires replacing that text with “767-200 SRM 53-10-01 Repair 1, 767-300 SRM 53-10-01 Repair 1, 767-300F SRM 53-10-01 Repair 1, 767-400 SRM 53-10-01 Repair 1, or B767-300BCF SRM 53-10-01 Repair 1, as applicable.”

(4) Where Boeing Alert Requirements Bulletin 767-53A0301 RB, Revision 2, dated May 24, 2023, refers to “767-200 SRM 53-10-01 Repair 1, 767-300 SRM 53-10-01 Repair 1, or 767-400 SRM 53-10-01 Repair 1,” this AD requires replacing that text with “767-200 SRM 53-10-01 Repair 1, 767-300 SRM 53-10-01 Repair 1, 767-400 SRM 53-10-01 Repair 1, or B767-300BCF SRM 53-10-01 Repair 1, as applicable.”

(i) Required Actions: Model 767-2C

At the later of the times specified in paragraphs (i)(1) and (2) of this AD: Perform inspections (external detailed, internal detailed, and open hole high frequency eddy current, as applicable), including repetitive inspections as applicable, for cracking at the forward entry door and forward service door cutout aft lower corner fuselage skin and bear strap area, and repair any cracks found, in accordance with a method and at the times specified, as approved by the Manager, AIR-520, Continued Operational Safety Branch, FAA.

Note 2 to paragraph (i): Guidance on doing the required actions can be found in Boeing Alert Requirements Bulletin 767-53A0303 RB, Revision 1, dated June 29, 2023; and Boeing Alert Requirements Bulletin 767-53A0308, Revision 1, dated June 21, 2023.

(1) Before 15,000 cumulative flight cycles or 30,000 cumulative total accumulated cycles, whichever occurs first. These terms are defined in paragraph (j) of this AD.

(2) Within 2,250 flight cycles, 4,500 total accumulated cycles, or 24 months after the effective date of this AD, whichever occurs first.

(j) Compliance Time Definitions for Model 767-2C

The definitions in paragraphs (j)(1) through (5) of this AD apply to this AD.

(1) A “flight cycle” is an operation by an aircraft that is initially stopped on the ground, departs in flight, attains a maximum above ground level (AGL) altitude greater than 5,000 feet relative to the runway, lands on a runway, and stops on the ground. A flight cycle may include one or more touch-and-go cycles.

(2) A “touch-and-go cycle” is an operation by an aircraft that lands and departs on a runway without stopping or exiting the runway and is immediately followed by a short flight with a maximum AGL altitude of 5,000 feet relative to the runway.

(3) “Total accumulated cycles” is the sum of the accumulated number of flight cycles, accumulated missed approaches, and the accumulated number of touch-and-go cycles.

(4) A “missed approach” (or go-around) is an aircraft landing approach that is discontinued and proceeded by a climb-out for any reason without landing gear touching the runway and is either immediately preceded by or immediately followed by a short flight with a maximum AGL altitude of 5,000 feet relative to the runway. Any flight operation not meeting this definition is considered a flight cycle.

(5) “Cumulative” cycles are total cycles since new.

(k) Credit for Previous Actions

This paragraph provides credit for the actions specified in paragraph (g) of this AD, if those actions were performed before the effective date of this AD using Boeing Alert Requirements Bulletin 767-53A0301 RB, dated April 21, 2021, or Boeing Alert Requirements Bulletin 767-53A0301 RB, Revision 1, dated April 11, 2022.

(l) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (m)(1) of this AD. Information may be emailed to: 9-ANM-Seattle-ACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(m) Related Information

(1) For more information about this AD, contact Joseph Hodgin, Aviation Safety Engineer, FAA, 2200 South 216th St., Des Moines, WA 98198; phone: 206-231-3962; email: Joseph.J.Hodgin@faa.gov.

(2) Service information identified in this AD that is not incorporated by reference is available at the address specified in paragraph (n)(3) of this AD.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Requirements Bulletin 767-53A0301 RB, Revision 2, dated May 24, 2023.

(ii) [Reserved]

(3) For service information identified in this AD, contact Boeing Commercial Airplanes, Attention: Contractual & Data Services (C&DS), 2600 Westminster Blvd., MC 110-SK57, Seal Beach, CA 90740-5600; telephone 562-797-1717; website myboeingfleet.com.

(4) You may view service information that is incorporated by reference at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on February 29, 2024.
Victor Wicklund,
Deputy Director, Compliance & Airworthiness Division, Aircraft Certification Service.

[FR Doc. 2024-06993 Filed 4-2-24; 8:45 am]

BILLING CODE 4910-13-P